DEPARTMENT OF COMMERCE

United States Patent and Trademark Office

Secrecy and License To Export

ACTION: Proposed collection; comment request.

SUMMARY: The United States Patent and Trademark Office (USPTO), as part of its continuing effort to reduce paperwork and respondent burden, invites the general public and other Federal agencies to take this opportunity to comment on the extension of a currently approved collection, as required by the Paperwork Reduction Act of 1995, Public Law 104-13 (44 U.S.C. 3506(c)(2)(A)).

DATES: Written comments must be submitted on or before March 13, 2007.

ADDRESSES: You may submit comments by any of the following methods:

• E-mail: Susan.Brown@uspto.gov. Include “0651-0034 comment” in the subject line of the message.

• Fax: 571-273-0112, marked to the attention of Susan Brown.

• Mail: Susan K. Brown, Records Officer, Office of the Chief Information Officer, Architecture, Engineering and Technical Services, Data Architecture and Services Division, U.S. Patent and Trademark Office, P.O. Box 1450, Alexandria, VA 22313-1450.

• Federal e-Rulemaking Portal: http//www.regulations.gov

FOR FURTHER INFORMATION CONTACT: Requests for additional information should be directed to the attention of Robert A. Clarke, Deputy Director, Office of Patent Legal Administration, U.S. Patent and Trademark Office (USPTO), P.O. Box 1450, Alexandria, VA 22313-1450; by telephone 571-272-7735; or by e-mail at robert.clarke@uspto.gov.

SUPPLEMENTARY INFORMATION:

I. Abstract

In the interest of national security, patent laws and rules place certain limitations on the disclosure of information contained in patents and patent applications and on the filing of applications for patents in foreign countries. When an invention is determined to be detrimental to national security, the Commissioner for Patents at the United States Patent and Trademark Office (USPTO) must issue a secrecy order and withhold the grant of a patent for such period as the national interest requires. It a secrecy order is applied to an international application, the application will not be forwarded to the International Bureau as long as the secrecy order is in effect. The USPTO collects information to determine whether the patent laws and rules have been complied with, and to grant or revoke licenses to file abroad when appropriate. This collection of information is required by 35 U.S.C. 181-188 and administered through 37 CFR Ch. 1, Part 5, 5.1-5.33.

There are no forms associated with this collection of information.

II. Method of Collection

By mail, facsimile, or hand delivery to the USPTO when the applicant or agent files a patent application with the USPTO, submits subsequent papers during the prosecution of the application to the USPTO, or submits a request for a foreign filing license for a patent application to be filed abroad before the filing of a United States patent application.

III. Data

OMB Number: 0651-0034.

Form Number(s): None.

Type of Review: Extension of a currently approved collection.

Affected Public: Business or other for profit; not-for-profit institutions.

Estimated Number of Respondents: 1,669 responses per year.

Estimated Time per Response: The USPTO estimates that it will take between 30 minutes to 4 hours to gather, prepare and submit this information, depending upon the complexity of the situation.

Estimated Total Annual Respondent Burden Hours: 1,310 hours per year.

Estimated Total Annual Respondent Cost Burden: $398,240. Using the professional hourly rate of $304 for associate attorneys in private firms, the USPTO estimates $398,240 per year for salary costs associated with respondents.

Item | Estimated time for response | Estimated annual responses | Estimated annual burden hours
Petition for rescission of secrecy order | 3 hours | 6 | 18
Petition to disclose or modification of secrecy order | 2 hours | 3 | 6
Petition for general and group permits | 1 hour | 1 | 1
Petition for expedited handling of license (no corresponding appliction) | 30 minutes | 1,402 | 701
Petition for expedited handling of license (corresponding U.S. application) | 30 minutes | 126 | 63
Petition for changing the scope of a license | 30 minutes | 1 | 1
Petition for retroactive license | 4 hours | 130 | 520
Totals |  | 1,669 | 1,310

Estimated Total Annual Non-Hour Respondent Cost Burden: $331,865. There are no capital start-up or maintenance costs associated with this information collection. There are, however, filing fees and postage costs.

This collection has a total of $331,800 in associated filing fees, as shown in the accompanying table:

Item | Responses (a) | Filing fee ($) (b) | Total filing fee cost burden (c) (a × b)
Petition for rescission of secrecy order | 6 | $0 | $0.00
Petition to disclose or modification of secrecyorder | 3 | 0 | 0.00
Petition for general and group permits | 1 | 0 | 0.00
Petition for expedited handling of license (no corresponding application) | 1,402 | 200.00 | 280,400.00
Petition for expedited handling of license (corresponding U.S. application) | 126 | 200.00 | 25,200.00
Petition for changing the scope of a license | 1 | 200.00 | 200.00
Petition for retroactive license | 130 | 200.00 | 26,000.00
Totals | 1,669 |  | 331,800.00

The USPTO estimates that 90 percent (90%) of the petitions in this collection are submitted to the USPTO by facsimile or hand carried because of the quick turnaround required. For the 10 percent (10%) of the public that chooses to submit the petitions in this collection to the USPTO by mail through the United States Postal Service, the USPTO estimates that the average first class postage cost for a mailed submission will be 39 cents. Therefore, the USPTO estimates that up to 167 submissions per year may be mailed to the USPTO at an average first class postage cost of 39 cents, for a total postage cost of $65.

The USPTO estimates that the total non-hour respondent cost burden for this collection in the form of postage costs and filing fees amounts to $331,865.

IV. Request for Comments

Comments are invited on: (a) Whether the proposed collection of information is necessary for the proper performance of the functions of the agency, including whether the information shall have practical utility; (b) the accuracy of the agency's estimate of the burden (including hours and cost) of the proposed collection of information; (c) ways to enhance the quality, utility, and clarity of the information to be collected; and (d) ways to minimize the burden of the collection of information on respondents, e.g., the use of automated collection techniques or other forms of information technology.

Comments submitted in response to this notice will be summarized or included in the request for OMB approval of this information collection; they will also become a matter of public record.

Dated: January 4, 2007.
Susan K. Brown,
Records Officer, USPTO, Office of the Chief Information Officer, Architecture, Engineering and Technical Services, Data Architecture and Services Division.

[FR Doc. 07-91 Filed 1-11-07; 8:45 am]

BILLING CODE 3510-16-M